DEPARTMENT OF DEFENSE

Office of the Secretary

[Docket ID: DoD-2008-OS-0040]

Privacy Act of 1974; System of Records

AGENCY: National Reconnaissance Office, DoD.

ACTION: Notice to Alter a System of Records.

SUMMARY: The National Reconnaissance Office is proposing to alter a system of records notice in its existing inventory of record systems subject to the Privacy Act of 1974, (5 U.S.C. 552a), as amended.

DATES: This proposed action will be effective without further notice on May 30, 2008 unless comments are received which result in a contrary determination.

ADDRESSES: Send comments to the FOIA/Privacy Official, National Reconnaissance Office, Information Access and Release, 14675 Lee Road, Chantilly, VA 20151-1715.

FOR FURTHER INFORMATION CONTACT: Contact the FOIA/NRO Privacy Official at (703) 227-9128.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on April 22, 2008, to the House Committee on Oversight and Government Reform, the Senate Committee on Governmental Affairs, and the Office of Management and Budget (OMB) pursuant to paragraph 4c of Appendix I, ‘Federal Agency Responsibilities for Maintaining Records About Individuals’, to OMB Circular No. A-130, dated February 8, 1996, 1996 (February 20, 1996, 61 FR 6427).

Dated: April 23, 2008.
Patricia Toppings,
OSD Federal Register Liaison Officer, Department of Defense.

QNRO-15

System name:

Facility Security Files (October 3, 2006, 71 FR 58382)

Changes:

* * * * *

Categories of Records in the system:

In the first paragraph after the work telephone number entry, delete vehicle license plate number. After the emergency phone number entry, add “employee photo.” At the end of the first paragraph after the last entry communication message designator and tracking number, add “; and vehicle make, model, year, color, and license plate number.”

In the second paragraph, after the wheelchair access entry, add “vehicle make, model, year, color, and license plate number.”

In the third paragraph, after “willing to offer”, delete vehicle license plate number. At the end of the entry, add “and vehicle make, model, year, color, and license plate number.”

In the fourth paragraph, after “vehicle license plate number” add vehicle make, vehicle model, vehicle year, vehicle color.

* * * * *

Purposes:

In the first paragraph after the last sentence ending with visitors, add “(d) To send visit certifications to DoD facilities.”

* * * * *

Safeguards:

Delete entry and replace with “Records are stored in a secure, gated facility with guards, badge and password access. Computer terminal access is password protected. Access to, and use of, these records are limited to personnel whose official duties require access on a need-to-know basis.”

* * * * *

QNRO-15

System name:

Facility Security Files.

System location:

Office of Security and Counterintelligence, National Reconnaissance Office, 14675 Lee Road, Chantilly, VA 20151-1715.

Categories of individuals covered by the system:

National Reconnaissance Office (NRO) civilian, military, and contractor personnel who have been issued an NRO badge for entry onto the gated compound and into the facility; all other visitors who do not possess an NRO recognized badge but have been granted access to the NRO compound and facility; and any individuals who make unsolicited contact with the NRO.

Categories of records in the system:

For badged personnel information includes: Name, Social Security Number (SSN), grade or rank, job title, employer, organization, office location, work telephone number, date and place of birth, home address and telephone number, point of contact and emergency phone number, employee photo, badge status, type, number, and issue date, government sponsor, start and expiration dates, approving officer, access and access status, access approval identification, access request date and approval date, access briefing and debriefing dates, access personal identification number, investigation and re-indoctrination dates, polygraph date and status, communication message designator and tracking number; and vehicle make, model, year, color, and license plate number.

Visit requests information includes: Name, Social Security Number, organization (affiliation), employer of visitor, cleared or uncleared status, the visit point of contact's name and telephone number, visit date, type of badge to be issued, person issuing badge, date issued, location of visit, visit message, visit group identifier, access or certification access date, and any special accommodation or needs, such as handicap parking or wheelchair access; and vehicle make, model, year, color, and license plate number.

For unsolicited contacts information may include: Name, Social Security Number, date and place of birth, home address and telephone number, driver's license data, the correspondence received, and (occasionally) comments on the contact; information may be limited to that which the person making contact is willing to offer; and vehicle make, model, year, color, and license plate number.

For access control information includes: Name, Social Security Number, employment status, access expiration date, picture of employee, employee number, passport number, billet number, telephone number, vehicle license plate number, vehicle make, vehicle model, vehicle year, vehicle color, date of visit, point of contact, and the times and locations of access to the secure areas of the facility; fields of information for an NRO employee may differ from those for a visitor.

Authority for maintenance of the system:

5 U.S.C. 301 Departmental Regulations; National Security Act of 1947, as amended, 50 U.S.C. 401 et seq.; E.O 12333; DoDD 5240.1, Intelligence Activities; and E.O. 9397 (SSN).

Purpose(s):

The NRO collects and maintains the records (a) To maintain and provide reports for and on personnel and badge information of the current tenants of authorized facilities; also to create and track the status of visit requests and the issuance of visitor badges; (b) To identify employees and visitors at the entrances of the gated facility; tracking inside the NRO facility the NRO employee and visitor badges as they are used to pass through turnstiles and access office suites and other work areas; (c) To track any unsolicited contacts with the NRO, whether by correspondence or personal contact; to provide a threat assessment program for the Facility Security Branch; and to assist in the investigation and determination of any wrongdoing or criminal activities by NRO employees or facility visitors; (d) To send visit certifications to DoD facilities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routines Uses’ published at the beginning of the NRO compilation of systems of records notices apply to this system.

Policies and practices for storing, retrieving, accessing, retaining, and disposing of records in the system:

Storage:

Paper files and automated information systems, maintained in computers and computer output products.

Retrievability:

Name, social security number (SSN), organization, home and work address, date and place of birth, badge number, vehicle license plate number.

Safeguards:

Records are stored in a secure, gated facility with guards, badge and password access. Computer terminal access is password protected. Access to, and use of, these records are limited to personnel whose official duties require access on a need-to-know basis.

Retention and disposal:

Records are temporary, retained for 3 months to 5 years depending on the type of record; unsolicited contact records are retained for 25 years before being destroyed.

System manager(s) and address:

Director, Office of Security and Counterintelligence, National Reconnaissance Office, 14675 Lee Road, Chantilly, VA 20151-1715.

Notification procedure:

Individuals seeking to determine whether this system of records contains information about themselves should address written inquiries to the National Reconnaissance Office, Information Access and Release Center, 14675 Lee Road, Chantilly, VA 20151-1715.

Request should include the individual's full name and any aliases or nicknames, address, Social Security Number (SSN), current citizenship status, date and place of birth, and other information identifiable from the record.

In addition, the requester must provide a notarized statement or an unsworn declaration made in accordance with 28 U.S.C. 1746, in the following format:

If executed outside the United States: I declare (or certify, verify, or state under penalty of perjury under the laws of the United States of America that the foregoing is true and correct. Executed on (date). Signature.

If executed within the United States, its territories, possessions, or commonwealths: I declare (or certify, verify, or state) under penalty of perjury that the foregoing is true and correct. Executed on (date). Signature.

Record access procedures:

Individuals seeking to access information about themselves contained in this system should address written inquiries to the National Reconnaissance Office, Information Access and Release Center, 14675 Lee Road, Chantilly, VA 20151-1715. Request should include the individual's full name and any aliases or nicknames, address, Social Security Number (SSN), current citizenship status, date and place of birth, and other information identifiable from the record.

In addition, the requester must provide a notarized statement or an unsworn declaration made in accordance with 28 U.S.C. 1746, in the following format:

If executed outside the United States: ‘I declare (or certify, verify, or state under penalty of perjury under the laws of the United States of America that the foregoing is true and correct. Executed on (date). Signature.’

If executed within the United States, its territories, possessions, or commonwealths: 'I declare (or certify, verify, or state) under penalty of perjury that the foregoing is true and correct. Executed on (date). Signature.'

Contesting record procedures:

The National Reconnaissance Office rules for accessing records, for contesting contents and appealing initial agency determinations are published in NRO Directive 110-3b and NRO Instruction 110-3-1; 32 CFR part 326; or may be obtained from the Privacy Act Coordinator, National Reconnaissance Office, 14675 Lee Road, Chantilly, VA 20151-1715.

Record source categories:

Information is supplied by the individuals (NRO employee, visitor, or person making the unsolicited contact) and by the security staff.

Exemptions claimed for the system:

Investigatory material compiled for law enforcement purposes, other than material within the scope of subsection (j)(2), may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

An exemption rule for this exemption has been promulgated in accordance with requirements of 5 U.S.C. 553(b)(1), (2), and (3), (c) and (e) and published in 32 CFR part 326. For additional information contact the system manager.

[FR Doc. E8-9411 Filed 4-29-08; 8:45 am]

BILLING CODE 5001-06-P